DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Client-Level Data Reporting System.

OMB No.: 0915-0323—Revision.

Abstract: The Ryan White HIV/AIDS Program's client-level data reporting system, entitled the Ryan White HIV/AIDS Program Services Report or the Ryan White Services Report (RSR), was created in 2009 by the Health Resources and Services Administration (HRSA). It is designed to collect information from grantees as well as their subcontracted service providers, funded under Parts A, B, C, and D, and the Part F Minority AIDS Initiative of the Ryan White HIV/AIDS Treatment Extension Act of 2009 (Ryan White HIV/AIDS Program). The Ryan White HIV/AIDS Program authorized under Title XXVI of the Public Health Service Act, as amended by the Ryan White HIV/AIDS Treatment Extension Act of 2009, provides entities funded by the program with flexibility to respond effectively to the changing HIV epidemic, with an emphasis on providing life-saving and life-extending services for people living with HIV across this country, as well as targeting resources to areas that have the greatest needs.

Need and Proposed Use of the Information: All parts of the Ryan White HIV/AIDS Program specify HRSA's responsibilities in administering grant funds, allocating funds, evaluating programs for the populations served, and improving quality of care. Accurate records of the providers receiving Ryan White HIV/AIDS Program funding, the clients served, and services provided continue to be critical issues for the implementation of the legislation and are necessary for HRSA to fulfill its responsibilities.

The RSR provides data on the characteristics of Ryan White HIV/AIDS Program-funded grantees, their contracted service providers, and the clients served with program funds. The RSR is intended to support clinical quality management, performance measurement, service delivery, and client monitoring at the systems and client levels. The reporting systems consist of two online data forms, the Grantee Report and the Service Provider Report, as well as a data file containing the client-level data elements. Data are submitted annually.

The legislation specifies the importance of grantee accountability and linking performance to budget. The RSR is used to ensure compliance with the requirements of the legislation, to evaluate the progress of programs, to monitor grantee and provider performance, and to meet reporting responsibilities to the Department, Congress, and OMB.

In addition to meeting the goal of accountability to Congress, clients, advocacy groups, and the general public, information collected through the RSR is critical for HRSA, state and local grantees, and individual providers to assess the status of existing HIV-related service delivery systems, investigate trends in service utilization, and identify areas of greatest need.

Likely Respondents: Ryan White HIV/AIDS Program Part A, Part B, Part C, and Part D grantees and their contracted service providers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

The estimate includes burden hours associated with revisions and updates to client-level data (CLD) electronic data collections systems (60,720 total hours) and burden hours for the actual submission of the data (15,749 total hours). Total Estimated Annualized burden hours: 76,469.

Total Estimated Annualized Burden Hours
RSR component | Number of respondents | Number of responses per respondent | Total responses | Average burden per response (in hours) | Total burden hours
Grantee Report:
Part A | 52 | 1 | 52 | 2.04 | 106
Part B | 51 | 1 | 51 | 2.52 | 129
Part C | 351 | 1 | 351 | 0.32 | 122
Part D | 115 | 1 | 115 | 0.33 | 38
Subtotal | 569 |  |  |  | 395
The response burden for service providers is estimated as:
Service Provider Report | * 2,025 | 1 | * 2,025 | 2.30 | 4,658
Subtotal | 2,025 |  |  |  | 4,658
Service Providers requiring revisions/updates to CLD collection systems | 1,012 | 1 | 1,012 | 60 | 60,720
Subtotal | 1,012 |  | 1,012 |  | 60,720
Client Report (client-level data):
• Providers without electronic data systems | 37 | 1 | 37 | 106.25 | 3,931
• Providers with electronic data systems | 1,804 | 1 | 1,804 | 3.75 | 6,765
Subtotal | ** 1,841 |  | ** 1,841 |  | 10,696
TOTAL | 5,447 | 1 | 5,447 | 14.04 | 76,469
* All providers, including providers of administrative support services and direct client services.
** Providers of direct client services only.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: December 26, 2013.
Bahar Niakan,
Director, Division of Policy and Information Coordination.

[FR Doc. 2013-31472 Filed 1-2-14; 8:45 am]

BILLING CODE 4165-15-P